Title 3—

The President

Proclamation 7544 of April 19, 2002

National Organ and Tissue Donor Awareness Week, 2002

By the President of the United States of America

A Proclamation

Our Nation's organ and tissue donor program is an important part of our healthcare system. Through the organ donor program, Americans can provide hope to those who face difficult and often life-threatening conditions caused by the failure of vital organs. The selfless generosity of organ and tissue donors helps meet a significant and growing need in our country.

Statistics show that approximately 60 Americans receive a transplant every day. However, at the same time, another 15 people die because not enough organs are available. There are more than 79,500 patients waiting for an organ transplant, and another person joins the waiting list every 13 minutes.

My Administration is committed to expanding the organ and tissue program to close this gap. Last year, Secretary of Health and Human Services (HHS) Tommy Thompson assumed leadership of this effort through the “Gift of Life Donation Initiative.” This Initiative involves collaboration among businesses and employees to make organ donation information more available. It also includes the development of a national forum on donor registries, a new model donor card, and increased cooperation between HHS, other Federal agencies, and State governments to promote donor awareness.

Every day, Americans across our Nation provide help for those in need in countless ways. During this week, we renew our efforts to foster this compassion and to help save lives by promoting organ and tissue donation.

NOW, THEREFORE, I, GEORGE W. BUSH, President of the United States of America, by virtue of the authority vested in me by the Constitution and laws of the United States, do hereby proclaim April 21 through April 27, 2002, as National Organ and Tissue Donor Awareness Week. I call upon all medical professionals, educators, volunteers, government agencies, and private organizations to join me in raising awareness of the need for organ donors in communities throughout our Nation. IN WITNESS WHEREOF, I have hereunto set my hand this nineteenth day of April, in the year of our Lord two thousand two, and of the Independence of the United States of America the two hundred and twenty-sixth.

B

[FR Doc. 02-10201

Filed 4-23-02; 8:45 am]

Billing code 3195-01-P